DEPARTMENT OF THE INTERIOR

Bureau of Land Management

[OR-120-01-7122PB-9021:01-0129]

Proposed Natural Gas Pipeline; Douglas County, OR

AGENCY: Bureau of Land Management (BLM), DOI.

ACTION: Notice of intent to prepare an environmental impact statement (EIS) and notice of scoping on a proposed natural gas pipeline right-of-way application.

SUMMARY: Pursuant to Section 102(2)(C) of the National Environmental Policy Act of 1969, the Bureau of Land Management (BLM), Coos Bay District, will be directing the preparation of an EIS by a third party contractor on the impacts of a proposed natural gas pipeline from near Roseburg in Douglas County, Oregon, to the Coos Bay city limits in Coos County, Oregon. BLM received a right-of-way application under Section 501 of the Federal Land Policy and Management Act of October 21, 1976, (43 U.S.C. 1737) on May 17, 2000. The proposed pipeline will cross approximately 55 miles on public and private lands in Coos and Douglas Counties, Oregon.

DATES: This notice constitutes the beginning of the 30-day public scoping process. Interested individuals, organizations, and other agencies are encouraged to review the proposal and provide written comments by April 30, 2001, to the address below. A public scoping meeting will be held beginning at 7:30 on April 4, 2001 at the Coos Bay City Hall Council Chambers, 500 Central, Coos Bay.

ADDRESSES: Sue E. Richardson, District Manager, Coos Bay District, BLM, 1300 Airport Lane, North Bend, OR 97459.

FOR FURTHER INFORMATION CONTACT: Bob Gunther, Project Coordinator, at address above or telephone (541-751-4295), fax: 541-751-4303, or e-mail comments to the attention of Bob_Gunther@or.blm.gov.

SUPPLEMENTARY INFORMATION: The Coos County Board of Commissioners has applied for a right-of-way proposing to contract construction of a 12 inch natural gas trunk line to be buried within the existing rights-of-ways of the Pacific Corp. (PP&L) and Bonneville Power Administration (BPA) electric transmission lines, and within the existing roadbed of the Coos Bay Wagon Road. The total length of the pipeline is approximately 55 miles, with approximately 4.5 miles located on lands administered by the BLM. The proposed pipeline would connect to the Williams Gas Pipeline at a meter facility southwest of Roseburg, in or near Section 33 Township 27 South, Range 6 West in Douglas County. The exact location of the endpoint is not finalized (at the Coos Bay city limits in or near Section 27 Township 25 South, Range 13 West).

The natural gas transmission pipeline will deliver gas to distribution facilities built by Northwest Natural Gas in the Coos Bay and North Bend communities. Smaller 6″ or 4″ laterals will be built off the mainline to serve the towns of Coquille, Myrtle Point, and perhaps Bandon. The location of the laterals has not been finalized, but is anticipated to follow the location of existing powerline, State highway, or railroad right-of-ways. Locations of the distribution lines within city limits are not known at this time, but are anticipated to be located within existing road right-of-ways.

The proposed pipeline will fall under the jurisdiction of US Department of Transportation (DOT), as a gas transmission pipeline. It will be built and operated to all current specifications in 49 CFR Part 192 (Natural Gas Pipelines) and other relevant sections. The Oregon Public Utility Commission will administer US DOT Pipeline Safety regulations for this pipeline.

The proposed pipeline will be designed with the appropriate design safety factors. The mainline is proposed as welded steel pipeline with a Maximum Allowable Operating Pressure (MAOP) of 100 psig. The finished pipeline will be pressure tested to at least 15% of MAOP, to detect leakage or failure.

All construction is done during daylight hours. Mainline construction will take about 6 months. Applicant plans to construct in the relatively dry summer months of April through October.

Pipeline construction will require a working space up to 60 feet wide. DOT requires a minimum of 30″ of cover in normal soils, 18″ in consolidated rock, 36″ under roads. The pipe will be installed to a target depth of 48″ to top of pipe. Some grading will be required to install the pipe, but shall be substantially restored to original grade before revegetation. All earth disturbance operations shall be subject to an erosion control plan to comply with US Environmental Protection Agency (EPA) guidelines.

In sections along electrical transmission lines, the contractor shall be required to have and follow a plan to continuously ground the pipe, to protect workers from shock from induced currents.

Coos County plans to contract pipeline operations with an experience pipeline operator. The County and its operator are required under DOT to formulate and use an Operations and Maintenance Plan specifically for this pipeline. The Operations and Maintenance Plan includes an Emergency Plan for specific procedures and notifications in case of an emergency.

Coos County plans to provide cathodic protection against corrosion, as required by DOT. Magnesium anodes will be placed at regular intervals along the pipeline, to sacrificially corrode and protect the coated steel pipe. This method normally mitigates most induced AC current. In sections near electrical transmission lines, supplemental anodes and other measures will be taken as necessary to minimize induced AC on the pipeline.

Long-term pipeline operation will require 40 feet of space to be kept clear of larger brush and trees. Access roads to the BPA corridor will be restored as needed for pipeline construction and access for Operations and Maintenance.

After the initial pipeline construction period, there is no need to ever excavate any particular segment of pipe. Annual maintenance consists of checking depth of pipe in roadways, repairing any soil erosion, controlling brush, replacing line markers, painting and operating block valves, leak surveys, and checking the effectiveness of the corrosion control system.

The BLM will consider issues and concerns identified during the scoping process in the preparation of the draft EIS. Comments which have been previously received as input for the preparation of the environmental assessment will be considered as comments for the EIS. The preliminary issues identified include: socio-economics impacts associated with the proposed project; soil erosion; water quality; wildlife and fish; potential impacts to traditional Native American uses of the area, archaeological sites, noxious weeds. Those individuals, organizations, and agencies with a known interest in the proposal have been sent a scoping letter requesting comments on the proposal. Persons wishing to be added to the mailing list for this EIS may do so by contacting the Coos Co. Pipeline Project Office, 1309 W. Central Blvd., Coquille, OR 97423.

The comment period on the draft EIS will last 60 days from the date the U.S. EPA Notice of Availability appears in the Federal Register. The draft EIS is expected to be available for review in June 2001. Because of recent court rulings, it is very important that those interested in the proposed action participate during the scoping and draft EIS review processes, so that any substantive comments are provided at a time when the BLM can meaningfully consider them. Comments, including names and addresses of respondents, will be available for public review at the Coos Bay District office during regular business hours (7:45 a.m. to 4:30 p.m., Monday to Friday, except holidays) and may be published as part of the EIS or other related documents. Individuals may request confidentiality. If you wish to withhold your name or address from public review or from disclosure under the Freedom of Information Act, you must state this promptly at the beginning of your written comment. Such requests will be honored to the extent allowed by law. All submissions from organizations or businesses, and from individuals identifying themselves as representatives or officials of organizations or businesses, will be made available for public inspection in their entirety.

Dated: March 13, 2001.
Terry Richards,
Acting District Manager.

[FR Doc. 01-7808 Filed 3-28-01; 8:45 am]

BILLING CODE 4310-33-M